DEPARTMENT OF LABOR

Employment and Training Administration

[TA-W-37,884]

Rycraft, Incorporated, Corvallis, OR; Notice of Revised Determination on Reconsideration

On November 2, 2000, the Department issued an Affirmative Determination Regarding Application on Reconsideration applicable to workers and former workers of the subject firm. The notice was published in the Federal Register on November 15, 2000 (65 FR 69050).

The Department initially denied TAA to workers of Rycraft, Incorporated, Corvallis, Oregon producing terra cotta cookie stamps because the “contributed importantly” group eligibility requirement of section 222(3) of the Trade Act of 1974, as amended, was not met.

On reconsideration, the Department conducted further survey of the major independent brokers of Rycraft. The survey revealed that the former customers of Rycraft imported substantial amounts of terra cotta cookie stamps while reducing purchases from Rycraft.

Conclusion

After careful review of the additional facts obtained on reconsideration, I conclude that increased imports of articles like or directly competitive with terra cotta cookie stamps, contributed importantly to the declines in sales or production and to the total or partial separation of workers of Rycraft, Incorporated, Corvallis, Oregon. In accordance with the provisions of the Act, I make the following certification:

All workers of Rycraft, Incorporated, Corvallis, Oregon who became totally or partially separated from employment on or after June 27, 1999 are eligible to apply for adjustment assistance under Section 223 of the Trade Act of 1974.

Signed in Washington, D.C. this 22nd day of November 2000.
Linda G. Poole,
Certifying Officer, Division of Trade Adjustment Assistance.

[FR Doc. 00-31814 Filed 12-13-00; 8:45 am]

BILLING CODE 4510-30-M